NATIONAL ARCHIVES AND RECORDS ADMINISTRATION

[NARA-2015-001]

Freedom of Information Act Advisory Committee

AGENCY: National Archives and Records Administration.

ACTION: Notice of FOIA Advisory Committee Meeting.

SUMMARY: In accordance with the Federal Advisory Committee Act (5 U.S.C. App) and the second United States Open Government National Action Plan (NAP) released on December 5, 2013, NARA announces the following committee meeting to discuss improvements to the administration of the Freedom of Information Act (FOIA).

DATES: The meeting will be held on October 21, 2014, from 10:00 a.m. to 1:00 p.m. EDT.

ADDRESS: National Archives and Records Administration (NARA), 700 Pennsylvania Avenue NW., Archivist's Reception Room (Room 105), Washington, DC 20408.

SUPPLEMENTARY INFORMATION: This meeting will be open to the public. However, due to space limitations and access procedures, NARA requests that individuals planning to attend register for the event via Eventbrite at https://www.eventbrite.com/e/freedom-of-information-act-foia-advisory-committee-meeting-registration-13398355843. Eventbrite registration will go live on Tuesday, October 7, 2014 at 10:00 a.m. EDT. Members of the media who wish to register and those who are unable to register via Eventbrite should contact Christa Lemelin at the phone number, mailing address, or email address listed below. NARA's Office of Government Information Services will provide an agenda and additional instructions for participation on the FOIA Advisory Committee Web page at https://ogis.archives.gov/foia-advisory-committee/meetings.htm.

FOR FURTHER INFORMATION CONTACT: Christa Lemelin, Designated Federal Officer for this committee, at National Archives and Records Administration, Office of Government Information Services, 8601 Adelphi Road—OGIS, College Park, MD 20740-6001, by telephone at 202-741-5773; or by email at Christa.Lemelin@nara.gov.

Dated: October 1, 2014.
Patrice Little Murray,
Committee Management Officer.

[FR Doc. 2014-24030 Filed 10-6-14; 1:15 pm]

BILLING CODE 7515-01-P